DEPARTMENT OF TRANSPORTATION

Federal Aviation Administration

14 CFR Part 39

[Docket No. FAA-2021-0299; Project Identifier MCAI-2020-00253-R; Amendment 39-21510; AD 2021-08-16]

RIN 2120-AA64

Airworthiness Directives; PZL Swidnik S.A. Helicopters

AGENCY: Federal Aviation Administration (FAA), Department of Transportation (DOT).

ACTION: Final rule; request for comments.

SUMMARY: The FAA is adopting a new airworthiness directive (AD) for PZL Swidnik S.A. (PZL) Model W-3A helicopters. This AD requires repetitive inspections of a certain part-numbered stainless steel cable (cable) installed on a certain part-numbered hoist assembly, and depending on those inspection results, removing certain parts from service and reporting the results. This AD also prohibits installing the affected part unless it is inspected per the AD requirements. This AD was prompted by wear of and damage to the cable near the swaged terminal due to movement of the hook assembly. The actions of this AD are intended to address an unsafe condition on these products.

DATES: This AD becomes effective May 11, 2021.

The Director of the Federal Register approved the incorporation by reference of a certain document listed in this AD as of May 11, 2021.

The FAA must receive comments on this AD by June 25, 2021.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2021-0299; or in person at Docket Operations between 9 a.m. and 5 p.m., Monday through Friday, except Federal holidays. The AD docket contains this AD, the European Union Aviation Safety Agency (EASA) AD, any service information that is incorporated by reference, any comments received, and other information. The street address for Docket Operations is listed above. Comments will be available in the AD docket shortly after receipt.

For Goodrich Actuation Systems and WYTWÓRNIA SPRZĘTU KOMUNIKACYJNEGO “PZL-Świdnik” Spólka Akcyjna service information identified in this final rule, contact WSK “PZL-Świdnik” S.A., Al. Lotników Polskich 1, 21-045 Świdnik, Poland, telephone +48 664 424 798, or at www.pzl.swidnik.pl. You may view the referenced service information at the FAA, Office of the Regional Counsel, Southwest Region, 10101 Hillwood Pkwy., Room 6N-321, Fort Worth, TX 76177. It is also available on the internet at https://www.regulations.gov by searching for and locating Docket No. FAA-2021-0299.

FOR FURTHER INFORMATION CONTACT: Kristi Bradley, Aerospace Engineer, General Aviation & Rotorcraft Section, International Validation Branch, FAA, 10101 Hillwood Pkwy., Fort Worth, TX 76177; telephone 817-222-5110; email kristin.bradley@faa.gov.

SUPPLEMENTARY INFORMATION:

Background

EASA, which is the Technical Agent for the Member States of the European Union, has issued EASA AD 2020-0017, dated January 30, 2020, to correct an unsafe condition for all serial-numbered Wytwórnia Sprzętu Komunikacyjnego (WSK) “PZL-Świdnik” Spółka Akcyjna (S.A.) Model PZL W-3A helicopters with a Collins Aerospace (formerly Goodrich) electric hoist assembly (hoist) part number (P/N) 76378-500 having stainless steel cable P/N 712952 installed. EASA advises that occurrences were reported of cables found worn out; the damage consisted of reduction of the cable diameter near the swaged terminal. EASA states that subsequent investigation identified that the extensive cable wear was possibly caused by flickering movement of the hook assembly in the stowage position during flights. EASA further states that this condition, if not detected and corrected, could lead to reduction of the cable strength, possibly resulting in an in-flight loss of the hoist load, injury to persons, or damage to and reduced control of the helicopter.

Accordingly, EASA AD 2020-0017 requires repetitive inspections of the cable to detect cable condition and diameter restriction and based on those inspection results, either replacing parts or additional maintenance actions and reporting non-compliant inspection results to Collins Aerospace. For helicopters that do not have the affected hoist installed, EASA AD 2020-0017 allows installing an affected hoist provided that it is new (never previously installed), overhauled (never installed after overhaul), or has passed an inspection (no defect found, or defects corrected), less than 25 flight hours before installation, in accordance with the instructions of the service information.

FAA's Determination

These helicopters have been approved by EASA and are approved for operation in the United States. Pursuant to the FAA's bilateral agreement with the European Union, EASA has notified the FAA of the unsafe condition described in its AD. The FAA is issuing this AD after evaluating all information provided by EASA and determining the unsafe condition exists and is likely to exist or develop on other helicopters of the same type design.

Related Service Information Under 1 CFR Part 51

The FAA reviewed Goodrich Actuation Systems Alert Service Bulletin 76378-500-25-P01, Revision 0, dated December 3, 2019 (ASB 76378-500-25-P01). ASB 76378-500-25-P01 specifies procedures to visually inspect the cable near the swaged terminal for cable diameter restriction, the hook assembly stowage force, and the hook assembly stowage at the up limit. ASB 76378-500-25-P01 also specifies corrective action and reporting certain data if the cable is not compliant due to cable diameter restriction and the results of the hook assembly stowage force inspection.

ASB 76378-500-25-P01 is an attachment to WYTWÓRNIA SPRZĘTU KOMUNIKACYJNEGO “PZL-Świdnik” Spólka Akcyjna Alert Service Bulletin No. ASB-37-19-309, dated January 28, 2020 (ASB-37-19-309). ASB 76378-500-25-P01 is incorporated by reference in this AD. ASB-37-19-309 is not incorporated by reference in this AD.

This service information is reasonably available because the interested parties have access to it through their normal course of business or by the means identified in the ADDRESSES section.

Other Related Service Information

The FAA also reviewed ASB-37-19-309. ASB-37-19-309 specifies accomplishing repetitive visual inspections of the cable near the swaged terminal for cable diameter restriction and a one-time inspection of the hook assembly stowage force. ASB-37-19-309 also provides a reminder to accomplish the hook assembly stowage procedure after each individual hoisting operation performed in flight or on the ground.

AD Requirements

This AD requires within 25 hours time-in-service accumulated by the hoist (hoist hours) after the effective date of this AD, and thereafter at intervals not to exceed 25 hoist hours for all PZL Model W-3A helicopters with hoist P/N 76378-500 having stainless steel cable P/N 712952 installed, inspecting the cable for wear and damage, inspecting the measurement of the diameter of the cable, and removing the cable from service or replacing the cable with an airworthy part before further hoist operation if certain criteria is met. This AD also requires following certain reinstallation steps and reporting certain information. Finally, this AD prohibits installing an affected hoist or cable unless they meet the conditions as required by this AD.

Justification for Immediate Adoption and Determination of the Effective Date

Section 553(b)(3)(B) of the Administrative Procedure Act (APA) (5 U.S.C. 551 et seq.) (5 U.S.C.) authorizes agencies to dispense with notice and comment procedures for rules when the agency, for “good cause,” finds that those procedures are “impracticable, unnecessary, or contrary to the public interest.” Under this section, an agency, upon finding good cause, may issue a final rule without seeking comment prior to the rulemaking. Further, section 553(d) of the APA authorizes agencies to make rules effective in less than thirty days, upon a finding of good cause.

There are no helicopters with this type certificate on the U.S. Registry. Accordingly, notice and opportunity for prior public comment are unnecessary pursuant to 5 U.S.C. 553(b)(3)(B). In addition, for the reasons stated above, the FAA finds that good cause exists pursuant to 5 U.S.C. 553(d) for making this amendment effective in less than 30 days.

Comments Invited

The FAA invites you to send any written data, views, or arguments about this final rule. Send your comments to an address listed under ADDRESSES. Include “Docket No. FAA-2021-0299 and Project Identifier MCAI-2020-00253-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Kristi Bradley, Aerospace Engineer, General Aviation & Rotorcraft Section, International Validation Branch, FAA, 10101 Hillwood Pkwy., Fort Worth, TX 76177; telephone 817-222-5110; email kristin.bradley@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

There are no costs of compliance associated with this AD because there are no helicopters with this type certificate on the U.S. Registry.

Paperwork Reduction Act

A federal agency may not conduct or sponsor, and a person is not required to respond to, nor shall a person be subject to penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866, and

2. Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-08-16 PZL Swidnik S.A.: Amendment 39-21510; Docket No. FAA-2021-0299; Project Identifier MCAI-2020-00253-R.

(a) Effective Date

This airworthiness directive (AD) is effective May 11, 2021.

(b) Affected ADs

None.

(c) Applicability

This AD applies to PZL Swidnik S.A. (PZL) Model W-3A helicopters, certificated in any category, with a Collins Aerospace (formerly Goodrich) electric hoist (hoist) part number (P/N) 76378-500 with a stainless steel cable (cable) P/N 712952 installed.

(d) Subject

Joint Aircraft Service Component (JASC) Code: 2597, Equip/Furnishing System Wiring.

(e) Unsafe Condition

This AD defines the unsafe condition as wear and reduction of the cable diameter near the swaged terminal due to movement of the hook assembly. This condition could result in reduced strength of the cable, potentially resulting in an in-flight loss of the hoist load, injury to persons, and reduced control of or damage to the helicopter.

(f) Compliance

Comply with this AD within the compliance times specified, unless accomplished previously.

(g) Required Actions

(1) Within 25 hours time-in service on the hoist (hoist hours) after the effective date of this AD, and thereafter at intervals not to exceed 25 hoist hours:

(2) Remove the bottom part of the hook assembly, disengage and lift the hook assembly, clean the cable near the swaged terminal, and visually inspect for wear and damage. For the purposes of this AD, damage may be indicated by broken wires, kinks, bird cages, flattened areas, abrasion, necking, corrosion, or fretting. Visually inspect the area at no less than 12 cm of the cable between the cable swaged terminal and the hook assembly, as depicted in Figures 2 and 3 of Goodrich Actuation Systems Alert Service Bulletin 76378-500-25-P01, Revision 0, dated December 3, 2019 (ASB 76378-500-25-P01).

(i) If the cable is worn or damaged, before the next hoist operation, remove the cable from service and replace with an airworthy part. Within 30 calendar days, email the non-compliant information in accordance with paragraph 3.A.(4)(a) of ASB 76378-500-25-P01 to PL-CustomerSupport.AW@leonardocompany.com.

(ii) If there is no damage, before the next hoist operation, inspect the cable diameter restriction on the 12 cm length ensuring the cable diameter is ≥4.60 mm (0.181 in) paying particular attention to the cable diameter which is approximately 1 cm from the cable swaged terminal.

(iii) If the cable diameter is less than 4.60 mm (0.181 in), before the next hoist operation, replace the cable with an airworthy part. Within 30 calendar days, email the non-complaint information in accordance with paragraph 3.B.(1)(f) of ASB 76378-500-25-P01 to PL-CustomerSupport.AW@leonardocompany.com.

(iv) If the cable diameter is ≥4.60 mm (0.181 in), lubricate the cable with oil MIL-L-23699 or MIL-L-7808, or equivalent, reassemble bottom part of the hook assembly on the upper part, and bring the hook assembly back to the stowage position.

(3) As of the effective date of this AD, do not install a hoist or cable with a P/N identified in paragraph (c) of this AD unless they meet the conditions as required by paragraph (g) of this AD.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Kristi Bradley, Aerospace Engineer, General Aviation & Rotorcraft Section, International Validation Branch, FAA, 10101 Hillwood Pkwy., Fort Worth, TX 76177; telephone 817-222-5110; email kristin.bradley@faa.gov.

(2) WYTWÓRNIA SPRZĘTU KOMUNIKACYJNEGO “PZL-Świdnik” Spólka Akcyjna Mandatory Alert Service Bulletin No. BO-37-19-309, dated January 28, 2020, which is not incorporated by reference, contains additional information about the subject of this AD. For service information identified in this AD, contact WSK “PZL-Świdnik” S.A., Al. Lotników Polskich 1, 21-045 Świdnik, Poland; telephone +48-664 424 798; fax (+48) 817 225 710; or at www.pzl.swidnik.pl. You may view this referenced service information at the FAA, Office of the Regional Counsel, Southwest Region, 10101 Hillwood Pkwy., Room 6N-321, Fort Worth, TX 76177. For information on the availability of this material at the FAA, call (817) 222-5110.

(3) The subject of this AD is addressed in European Union Aviation Safety Agency (EASA) AD 2020-0017, dated January 30, 2020. You may view the EASA AD on the internet at https://www.regulations.gov by searching for and locating it in Docket No. FAA-2021-0299.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Goodrich Actuation Systems Alert Service Bulletin 76378-500-25-P01, Revision 0, dated December 3, 2019 (ASB 76378-500-25-P01).

Note 1 to paragraph (j)(2)(i): ASB 76378-500-25-P01 is attached to WYTWÓRNIA SPRZĘTU KOMUNIKACYJNEGO “PZL-Świdnik” Spólka Akcyjna Alert Service Bulletin No. ASB-37-19-309, dated January 28, 2020, which is not incorporated by reference in this AD.

(ii) [Reserved]

(3) As the design approval holder for the product identified in paragraph (c) of this AD, contact PZL Swidnik S.A. for the Goodrich Actuation Systems service information identified in this AD, at WSK “PZL-Świdnik” S.A., Al. Lotników Polskich 1, 21-045 Świdnik, Poland; telephone +48-664 424 798; fax (+48) 817 225 710; or at www.pzl.swidnik.pl.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on April 7, 2021.
Lance T. Gant,
Director, Compliance & Airworthiness Division, Aircraft Certification Service.

[FR Doc. 2021-08567 Filed 4-23-21; 8:45 am]

BILLING CODE 4910-13-P